DEPARTMENT OF HOMELAND SECURITY

Coast Guard

33 CFR Part 117

[CGD01-05-092]

Drawbridge Operation Regulations: Chelsea River, MA

AGENCY: Coast Guard, DHS.

ACTION: Notice of temporary deviation from regulations.

SUMMARY: The Commander, First Coast Guard District, has issued a temporary deviation from the drawbridge operation regulations for the P.J. McArdle Bridge, mile 0.3, across the Chelsea River between East Boston and Chelsea, Massachusetts. Under this temporary deviation the bridge may remain closed from 7 a.m. to 3 p.m., on October 24, 2005 and October 27, 2005. This temporary deviation is necessary to facilitate scheduled bridge maintenance.

DATES: This deviation is effective from October 24, 2005 through October 27, 2005.

FOR FURTHER INFORMATION CONTACT: John McDonald, Project Officer, First Coast Guard District, at (617) 223-8364.

SUPPLEMENTARY INFORMATION: The P.J. McArdle Bridge has a vertical clearance in the closed position of 21 feet at mean high water and 30 feet at mean low water. The existing drawbridge operation regulations are listed at 33 CFR 117.593.

The owner of the bridge, the City of Boston, requested a temporary deviation from the drawbridge operation regulations to facilitate scheduled bridge maintenance, bearing replacement.

Under this temporary deviation the P.J. McArdle Bridge may remain closed from 7 a.m. to 3 p.m., on October 24, 2005 and October 27, 2005.

This deviation from the operating regulations is authorized under 33 CFR 117.35, and will be performed with all due speed in order to return the bridge to normal operation as soon as possible.

Dated: September 23, 2005.
Gary Kassof,
Bridge Program Manager, First Coast Guard District.

[FR Doc. 05-19947 Filed 10-4-05; 8:45 am]

BILLING CODE 4910-15-P